FEDERAL COMMUNICATIONS COMMISSION

47 CFR Part 90

[PS Docket No. 07-114; DA 14-1680]

FCC Seeks Comment on Alternative “Roadmap” for E911 Indoor Location Accuracy Requirements

AGENCY: Federal Communications Commission.

ACTION: Request for comments.

SUMMARY: In this document, the Commission's Public Safety and Homeland Security Bureau (Bureau) seeks comment on the “Roadmap for Improving E911 Location Accuracy” (Roadmap), filed in the E911 location accuracy proceeding by the Association of Public-Safety Communications Officials (APCO), the National Emergency Number Association (NENA), AT&T Mobility, Sprint, T-Mobile USA, and Verizon.

DATES: Comments are due on or before December 10, 2014 and reply comments are due on or before December 17, 2014.

ADDRESSES: You may submit comments, identified by PS Docket No. 07-114 by any of the following methods:

• Federal eRulemaking Portal: http://www.regulations.gov. Follow the instructions for submitting comments.

• Federal Communications Commission's Web site: http://fjallfoss.fcc.gov/ecfs2/. Follow the instructions for submitting comments.

• Mail: Filings can be sent by hand or messenger delivery, by commercial overnight courier, or by first-class or overnight U.S. Postal Service mail. All filings must be addressed to the Commission's Secretary, Office of the Secretary, Federal Communications Commission.

• People with Disabilities: Contact the Commission to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: Eric Ehrenreich, Policy and Licensing Division, Public Safety and Homeland Security Bureau, at (202) 418-1726 or Eric.Ehrenreich@fcc.gov, or Dana Zelman, Policy and Licensing Division, Public Safety and Homeland Security Bureau, at (202) 418-0546, or Dana.Zelman@fcc.gov.

SUPPLEMENTARY INFORMATION: This is a summary of the Commission's document in PS Docket No. 07-114, DA 14-1680, released on November 20, 2014. This document is available to the public at http://www.fcc.gov/document/fcc-seeks-comment-indoor-location-accuracy-roadmap.

Synopsis

1. By this document the Bureau seeks comment on the “Roadmap for Improving E911 Location Accuracy” (Roadmap), filed in the E911 Location Accuracy proceeding by APCO, NENA, AT&T Mobility, Sprint, T-Mobile USA, and Verizon (Parties).

2. The Roadmap was filed in response to the Third Further Notice of Proposed Rulemaking in this proceeding, in which the Commission proposed measures and timeframes to improve location accuracy for 911 calls originating indoors, including proposals related to horizontal and vertical location of callers. The Commission also “encourage[d] industry, public safety entities, and other stakeholders to work collaboratively to develop alternative proposals for our consideration.” The Parties assert that the Roadmap “marks a new course using indoor technologies to deliver a `dispatchable location' for indoor 9-1-1 calls” and that it “contrasts with current and proposed outdoor technologies that provide estimates of location and face challenges with indoor location accuracy.” The Parties further state that “the Roadmap commits to meaningful improvements and FCC-enforceable timeframes to deliver effective location solutions.” We also note that some public safety organizations have submitted ex parte filings critical of the Roadmap and supportive of the original proposals in the Third Further Notice.

3. While the Commission has already received numerous comments and compiled an extensive record in this proceeding, we believe that seeking expedited comment on the Roadmap is appropriate in light of the important public safety issues addressed in this proceeding and in order to ensure a complete and comprehensive record. Accordingly, we seek comment on whether the Roadmap presents a reasonable alternative, in whole or in part, to the proposals set forth in the Third Further Notice. We urge commenters to address the specific elements of the Roadmap and whether the Commission should incorporate each such element in whole, in part, or with modifications, into the rules that it ultimately adopts in this proceeding. We also seek comment on the potential applicability of the Roadmap elements to wireless carriers other than the Roadmap signatories.

Procedural Matters

A. Ex Parte Presentations

4. This proceeding has been designated as a “permit-but-disclose” proceeding in accordance with the Commission's ex parte rules. 47 CFR 1.1200 et seq. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b). In proceedings governed by § 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

B. Comment Filing Procedures

5. Interested parties may file comments and reply comments on or before the dates indicated on the first page of this document. Interested parties may file comments using: (1) The Commission's Electronic Comment Filing System (ECFS), or (2) by filing paper copies. See Electronic Filing of Documents in Rulemaking Proceedings, 63 FR 24121 (1998). Commenters should refer to docket number 07-114 when filing comments.

6. Electronic Filers: Interested parties may file comments electronically using the Internet by accessing the ECFS: http://apps.fcc.gov/ecfs2.

7. Paper Filers: Parties who choose to file by paper must file an original and one copy of each filing. If more than one docket or rulemaking number appears in the caption of this proceeding, filers must submit two additional copies for each additional docket or rulemaking number.

8. Filings can be sent by hand or messenger delivery, by commercial overnight courier, or by first-class or overnight U.S. Postal Service mail. All filings must be addressed to the Commission's Secretary, Office of the Secretary, Federal Communications Commission.

9. All hand-delivered or messenger-delivered paper filings for the Commission's Secretary must be delivered to FCC Headquarters at 445 12th Street SW., Room TW-A325, Washington, DC 20554. The filing hours are 8:00 a.m. to 7:00 p.m. All hand deliveries must be held together with rubber bands or fasteners. Any envelopes and boxes must be disposed of before entering the building.

10. Commercial overnight mail (other than U.S. Postal Service Express Mail and Priority Mail) must be sent to 9300 East Hampton Drive, Capitol Heights, MD 20743.

11. U.S. Postal Service first-class, Express, and Priority mail must be addressed to 445 12th Street SW., Washington, DC 20554.

12. People with Disabilities: To request materials in accessible formats for people with disabilities (braille, large print, electronic files, audio format), send an email to fcc504@fcc.gov or call the Consumer & Governmental Affairs Bureau at 202-418-0530 (voice), 202-418-0432 (tty).

13. Interested parties may view documents filed in this proceeding on the Commission's Electronic Comment Filing System (ECFS) using the following steps: (1) Access ECFS at http://apps.fcc.gov/ecfs. (2) In the introductory screen, click on “Search for Filings.” (3) In the “Proceeding Number” box, enter the numerals in the docket number. (4) Click on the box marked “Search for Comments.” A link to each document is provided in the document list. The public may inspect and copy filings and comments during regular business hours at the FCC Reference Information Center, 445 12th Street SW., Room CY-A257, Washington, DC 20554. The public may also purchase filings and comments from the Commission's duplicating contractor, Best Copy and Printing, Inc., Portals II, 445 12th Street SW., Room CY-B402, Washington, DC 20554, telephone 1-800-378-3160, or via email to fcc@bcpiweb.com. The public may also download this Public Notice from the Commission's Web site at http://www.fcc.gov/.

Federal Communications Commission.
David Furth,
Deputy Chief, Public Safety and Homeland Security Bureau.

[FR Doc. 2014-28870 Filed 12-8-14; 8:45 am]

BILLING CODE 6712-01-P